DEPARTMENT OF COMMERCE

National Oceanic and Atmospheric Administration

[I.D. 081402C]

Endangered Species; File No. 1374; Marine Mammals; File Nos. 781-1666, 1035-1688

AGENCY: National Marine Fisheries Service (NMFS), National Oceanic and Atmospheric Administration (NOAA), Commerce.

ACTION: Withdrawal of application, return of application, and receipt of application for permit.

SUMMARY: Notice is hereby given that the following applicants have applied in due form for a permit to take marine mammals and/or endangered species for the purposes of scientific research:

Dr. Andrew J. Read, Duke University Marine Laboratory, 135 Duke Marine Lab Road, Beaufort, NC 28516-9721 (File No. 1374);

NMFS Northwest Fisheries Science Center, 2725 Montlake Blvd. E, Seattle, WA 98112-2097 (Dr. Cynthia Tynan, Principal Investigator) (File No. 781-1666); and

Dr. Cynthia Tynan, School of Oceanography, University of Washington, Box 357940, Seattle, WA 98195-7940 (File No. 1035-1688).

DATES: Written or telefaxed comments on the new application must be received on or before September 23, 2002.

ADDRESSES: The applications and related documents are available for review upon written request or by appointment (See SUPPLEMENTARY INFORMATION).

FOR FURTHER INFORMATION CONTACT: Carrie Hubard or Ruth Johnson, (301)713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-227), and the Fur Seal Act of 1966, as amended (16 U.S.C. 1151 et seq.).

Application Withdrawn

On March 25, 2002 a notice was published in the Federal Register (67 FR 13607) that an application had been filed by Dr. Andrew J. Read of Duke University Marine Laboratory. The purpose of this research was to describe relationships between the movements of sea turtles and the fall gillnet flounder fishery as well as habitat use of loggerhead, green and Kemp's ridley sea turtles. Up to 30 loggerhead, 10 green and 10 Kemp’s ridley sea turtles would be monitored via satellite telemetry. The applicant has requested that the application be withdrawn and will now work on a similar project already authorized under NMFS Southeast Region scientific research Permit No. 1260.

Application Returned

On April 25, 2002 a notice was published in the Federal Register (67 FR 20491) that an application had been filed by NMFS, Northwest Fisheries Science Center, (Dr. Cynthia Tynan, Principal Investigator). The applicant requested permission to conduct photo-identification, prey sampling and line-transect surveys of marine mammals in U.S. waters of the North Pacific. Because the principal investigator on the permit application has changed affiliations and no longer works at NWFSC, the application has been returned.

Application Received

For File No. 1035-1688, the applicant requests permission to conduct shipboard line-transect surveys of marine mammals in U.S. waters of the North Pacific. The applicant proposes to take various species of cetaceans and five species of pinnipeds via harassment during photo-identification from small boats or larger research vessels, line-transect surveys from ships, and collection of prey near cetaceans. Cetacean prey will be collected via dip nets and towed zooplankton nets. The goal of this research is to provide temporal (seasonal) and spatial (mesoscale and fine-scale) variability in euphausiid and forage fish occurrence patterns necessary to identify the important bio-physical linkages between top-predator distributions and the density and availability of their prey. Line-transect data will also provide updated abundance estimates.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Documents are available in the following offices:

All documents: Permits, Conservation and Education Division, Office of Protected Resources, NMFS, 1315 East-West Highway, Room 13705, Silver Spring, MD 20910; phone (301)713-2289; fax (301)713-0376;

For File Nos. 781-1666, 1035-1688: Northwest Region, NMFS, 7600 Sand Point Way NE, BIN C15700, Bldg. 1, Seattle, WA 98115-0700; phone (206)526-6150; fax (206)526-6426;

For File Nos. 781-1666, 1035-1688: Southwest Region, NMFS, 501 West Ocean Blvd., Suite 4200, Long Beach, CA 90802-4213; phone (562)980-4001; fax (562)980-4018; and

For File No. 1374: Southeast Region, NMFS, 9721 Executive Center Drive North, St. Petersburg, FL 33702-2432; phone (727)570-5301; fax (727)570-5320.

Dated: August 19, 2002.
Eugene T. Nitta,
Acting Chief, Permits, Conservation and Education Division, Office of Protected Resources, National Marine Fisheries Service.

[FR Doc. 02-21591 Filed 8-22-02; 8:45 am]

BILLING CODE 3510-22-S